DEPARTMENT OF ENERGY

Federal Energy Regulatory Commission

[Project No. 13417-002]

Western Technical College; Notice of Application Accepted for Filing With the Commission, Soliciting Motions To Intervene and Protests, Ready for Environmental Analysis, Intent To Waive Scoping, Soliciting Comments, Terms and Conditions, Recommendations, and Prescriptions, and Establishing an Expedited Schedule for Processing

Take notice that the following hydroelectric application has been filed with the Commission and is available for public inspection.

a. Type of Application: New Minor License.

b. Project No.: 13417-002.

c. Date filed: October 21, 2011.

d. Applicant: Western Technical College.

e. Name of Project: Angelo Dam Hydroelectric Project.

f. Location: The project would be located on the La Crosse River in the Township of Angelo, Monroe County, Wisconsin at an existing dam owned by Monroe County and regulated by the Wisconsin Department of Natural Resources. The project would not occupy federal lands.

g. Filed Pursuant to: Federal Power Act 16 U.S.C. 791 (a)—825(r).

h. Applicant Contact: Western Technical College, c/o Mr. Michael Pieper, Vice President, Finance and Operations, 400 Seventh Street North, P.O. Box C-0908, La Crosse, Wisconsin 54602-0908; Phone: (608) 785-9120.

i. FERC Contact: Isis Johnson, (202) 502-6346, isis.johnson@ferc.gov.

j. Deadline for filing motions to intervene and protests, comments, terms and conditions, recommendations, and prescriptions: 60 days from the issuance date of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project would be located at an existing dam currently owned by Monroe County. The dam was built in 1854, and acquired in the 1920s by Northern States Power who rebuilt, owned, and operated a hydroelectric project at that location until it was abandoned and the generating equipment was removed in 1969. In 1998, Monroe County rehabilitated the dam and installed new tainter gates with cable drum hoists.

The existing Angelo dam is an earthen embankment with a maximum structural height of 20 feet (14 feet at the spillway) and a total length of 507.3 feet. The spillway is constructed of reinforced concrete and consists of four, 13.5-foot-wide by 11.4-foot-high bays with 13.5-foot-wide by approximately 7-foot-high steel tainter gates. In addition to the dam, the proposed project would consist of: (1) A 22.84-foot-long by 16.08-foot-wide trashrack with 2-inch clear spacing; (2) a 14.5-foot-long by 16.08-foot-wide by 13-foot-deep reinforced concrete intake structure; (3) a 20-foot by 20-foot by 20-foot reinforced concrete box forebay; (4) a 24.5-foot-long by 26-foot-wide by 40-foot-high powerhouse located at the right abutment of the dam containing a 205-kilowatt vertical double-regulated Kaplan turbine; (5) a 30-foot-long, 480-volt overhead transmission line connecting the powerhouse generator to a step-up transformer located on a pole which is part of Northern States Power's 2.7-kilovolt distribution line; and (6) appurtenant facilities. The projected annual energy generation would be 948,500 kilowatt-hours.

m. Due to the dam already existing, the limited scope of proposed construction at the project site, the applicant's close coordination with federal and state agencies during the preparation of the application, and the completion of studies during pre-filing consultation, we intend to waive scoping and expedite the review process. Based on a review of the application, resource agency consultation letters, and the fact that no comments have been filed on the final license application to date, Commission staff intends to prepare a single environmental assessment (EA). Commission staff determined that the issues that need to be addressed in its EA have been adequately identified during the pre-filing period, which included a public meeting and site visit, and no new issues are likely to be identified through additional scoping. The EA will assess the potential effects of project construction and operation on geology and soils, aquatic resources, terrestrial resources, threatened and endangered species, recreation and land use, and cultural and historic resources.

n. A copy of the application is available for review at the Commission in the Public Reference Room or may be viewed on the Commission's Web site at http://www.ferc.gov using the “eLibrary” link. Enter the docket number excluding the last three digits in the docket number field to access the document. For assistance, contact FERC Online Support at FERCONlineSupport@ferc.gov.

Register online at http://www.ferc.gov/docs-filing/esubscription.asp to be notified via email of new filings and issuances related to this or other pending projects. For assistance, contact FERC Online Support.

o. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. Procedural schedule: The application will be processed according to the following Hydro Licensing Schedule. Revisions to the schedule will be made as appropriate (e.g., if scoping is not waived, the schedule would be lengthened).

Milestone | Target date
Notice of the availability of the EA | July 2012.

Dated: April 24, 2012.
Kimberly D. Bose,
Secretary.

[FR Doc. 2012-10531 Filed 5-1-12; 8:45 am]

BILLING CODE 6717-01-P